DEPARTMENT OF TRANSPORTATION

Coast Guard

33 CFR Part 117

[CGD01-03-003]

Drawbridge Operation Regulations: Cheesequake Creek, NJ

AGENCY: Coast Guard, DOT.

ACTION: Notice of temporary deviation from regulations.

SUMMARY: The Commander, First Coast Guard District, has issued a temporary deviation from the drawbridge operation regulations for the New Jersey Transit Rail Operations (NJTRO) railroad bridge, mile 0.2, across Cheesequake Creek, at Morgan, South Amboy, New Jersey. Under this temporary deviation the bridge may remain closed to vessel traffic from February 3, 2003, through February 16, 2003. This temporary deviation is necessary to facilitate repairs at the bridge.

DATES: This deviation is effective from February 3, 2003, through February 16, 2003.

FOR FURTHER INFORMATION CONTACT: Joe Arca, Project Officer, First Coast Guard District, at (212) 668-7165.

SUPPLEMENTARY INFORMATION: The NJTRO railroad bridge has a vertical clearance in the closed position of 3 feet at mean high water and 8 feet at mean low water. The existing drawbridge operation regulations are listed at 33 CFR 117.709(b).

The bridge owner, New Jersey Transit Rail Operations, requested a temporary deviation from the drawbridge operation regulations to facilitate necessary maintenance, the refurbishment of the electrical controls, at the bridge. The bridge must remain in the closed position to perform these repairs. Vessels that can pass under the bridge without a bridge opening may do so at all times.

The waterway users who normally navigate Cheesequake Creek are predominantly recreational vessels. The proposed time period is historically the time period during which the fewest requests are made to open the bridge. The Coast Guard coordinated this closure with the mariners who normally use this waterway to help facilitate this necessary bridge repair and to minimize any disruption to the marine transportation system.

Under this temporary deviation the NJTRO railroad bridge may remain closed to vessel traffic from 8 a.m. on February 3, 2003, through 4 p.m. on February 16, 2003. The bridge shall open upon a four-hour advance notice for emergency situations.

This deviation from the operating regulations is authorized under 33 CFR 117.35, and will be performed with all due speed in order to return the bridge to normal operation as soon as possible.

Dated: January 24, 2003.
Vivien S. Crea,
Rear Admiral, U.S. Coast Guard, Commander, First Coast Guard District.

[FR Doc. 03-2697 Filed 2-4-03; 8:45 am]

BILLING CODE 4910-15-P